ENVIRONMENTAL PROTECTION AGENCY

[ER-FRL-6666-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050165, ERP No. D-NPS-L61228-AK, Denali National Park and Preserve Revised Draft Backcountry Management Plan, General Management Plan Amendment, Implementation, AK

Summary: EPA expressed environmental concerns due to potential adverse impacts to water quality, wetlands, permafrost soils and wildlife from increased snowmobile use. EPA requested that the final EIS include additional monitoring plans and contingent mitigation measures that can be used with adaptive management plans to minimize adverse impacts or unexpected outcomes. Rating EC2.

EIS No. 20050186, ERP No. D-AFS-C65005-NY, Finger Lakes National Forest Project, Proposed Land and Resource Management Plan, Forest Plan Revision, Implementation, Seneca and Schuyler Counties, NY.

Summary: EPA expressed environmental concerns due to potential adverse impacts to water quality, riparian areas, wetlands, vernal pools and perched oak swamps. EPA suggests the final EIS include specific forest wide standards and guidelines or special resource area designations to protect these resources. In addition, the final EIS should consider impacts to these areas from hydrological changes caused by management actions on adjacent or near by parcels. Rating EC2.

EIS No. 20050234, ERP No. D-FHW-G40185-LA, Interstate 69, Section of Independent Utility (SIU) 15 Project, Construct between U.S. Highway 171 near the Town of Stonewall in DeSoto Parish, and Interstate Highway 20 (I-20) near the Town of Haughton in Bossier Parish, LA.

Summary: EPA has environmental concerns due to the proposed project regarding air quality impacts and transportation conformity. Rating EC2.

EIS No. 20050236, ERP No. D-AFS-J65445-MT, Rocky Mountain Ranger District Travel Management Plan, Proposes to Change the Management of Motorized and Non-Motorized Travel, Lewis and Clark National Forest, Glacier, Pondera, Teton and Lewis and Clark Counties, MT.

Summary: EPA expressed environmental concerns due to adverse impacts from motorized uses on watersheds and water quality, wildlife habitat and cultural resources. EPA believes alternative 3 best balances conserving and protecting water quality, fisheries and reducing impacts from road sedimentation.

Rating EC2.

EIS No. 20050239, ERP No. D-CGD-G39043-00, Main Pass Energy Hub Deepwater Port License Application, Proposes to Construct a Deepwater Port and Associated Anchorages, U.S. Army COE Section 10 and 404 Permits, Gulf of Mexico (GOM), southeast of the coast of Louisiana in Main Pass Lease Block (MP) 299 and from the Mississippi coast in MP 164.

Summary: EPA expressed objections to the open rack re-gasification system due to adverse environmental impacts to Gulf waters and habitat. EPA believes that these impacts can be corrected by the project modifications or other feasible technology, and requested additional information to evaluate and resolve the outstanding issues.

Rating EO2.

EIS No. 20050248, ERP No. D-COE-G39044-TX, Upper Trinity River Basin Project, To Provide Flood Damage Reduction, Ecosystem Improvement, Recreation and Urban Revitalization, Trinity River, Central City, Forth Worth, Tarrant County, TX.

Summary: EPA expressed concerns regarding the proposed project, with a focus on potential air quality impacts. EPA requested additional information regarding emissions from construction activities and how the proposed project relates to the State Implementation Plan.

Rating EC2.

EIS No. 20050251, ERP No. D-AFS-K65286-CA, Watdog Project, Proposes to Reduce Fire Hazards, Harvest Trees, Using Group Selection Methods, Feather River Ranger District, Plumas National Forest, Butte and Plumas Counties, CA.

Summary: EPA expressed environmental concerns due to the potential for adverse impacts from timber harvest and increased road density to watersheds. The final EIS should address impacts to soils, aquatic and riparian resources, wildlife habitat and the increased potential for noxious weed proliferation.

Rating EC2.

EIS No. 20050264, ERP No. D-NPS-L65491-ID, Minidoka Internment National Monument (Former Minidoka Relocation Center), General Management Plan, Implementation, Jerome County, ID.

Summary: EPA has no objections to the proposed action.

Rating LO.

EIS No. 20050268, ERP No. D-NOA-A91072-00, Programmatic—Codified Regulations at 50 CFR 300 subparts A and G Implementing Conservation and Management Measures Adopted by the Commission for the Conservation of Antarctic Marine Living Resources.

Summary: EPA expressed a lack of objections to the proposed project.

Rating LO.

EIS No. 20050253, ERP No. DS-COE-D35057-MD, Poplar Island Restoration Project (PIERP) To Evaluate the Vertical and/or Lateral Expansion, Dredging Construction and Placement of Dredged Materials, Chesapeake Bay, Talbot County, MD.

Summary: EPA had no objections to the proposed project.

Rating LO.

EIS No. 20050278, ERP No. DS-AFS-L36113-WA, Upper Charley Subwatershed Ecosystem Restoration Projects, Proposing to Amend the Umatilla National Forests Land and Resource Management Plan to Incorporate Management for Canada lynx, Pomeroy Ranger District, Umatilla National Forest, Garfield County, WA.

Summary: EPA has no objection to the proposed action.

Rating LO.

Final EISs

EIS No. 20050161, ERP No. F-AFS-L65473-OR, Rogue River-Siskiyou National Forest, Special Use Permits for Outfitter and Guide Operations on the Lower Rogue and Lower Rogue and Lower Illinois Rivers, Gold Beach Ranger District, Rogue River-Siskiyou National Forest, Curry County, OR.

Summary: No formal comment letter was sent to the preparing agency.

EIS No. 20050188, ERP No. F-FTA-C54009-00, Permanent World Trade Center (WTC) PATH Terminal Project, Reconstruction of a Permanent Terminal at the WTC Site in Lower Manhattan, Port Authority Trans-Hudson (PATH), Several Permits Required for Approval, The Port Authority of New York and New Jersey, NY and NJ.

Summary: EPA has no objections to the proposed project.

EIS No. 20050207, ERP No. F-AFS-L65468-00, Pacific Northwest Region Invasive Plant Program, Preventing and Managing Invasive Plants, Implementation, Portions of Del Norte and Siskiyou Counties, CA, portions of Nez Perce, Salmon, Idaho, and Adam Counties, ID, OR, and WA.

Summary: No formal comment letter was sent to the preparing agency.

EIS No. 20050212, ERP No. F-AFS-J65438-WY, Dean Project Area, Proposes to Implement Multiple Resource Management Actions, Black Hills National Forest, Bearlodge Ranger District, Sundance, Crook County, WY.

Summary: EPA continues to express concerns about impacts to water quality from soil erosion, especially to streams already not meeting designated uses and potential adverse impacts to wildlife.

EIS No. 20050225, ERP No. F-HUD-C85045-NY, Ridge Hill Village Project, Construction, Comprehensive Development Plan, (CDP), Planned Mixed-Use Developmental District (PMD), U.S. Army COE Section 404 Permit, City of Yonkers, Westchester County, NY.

Summary: While EPA has no objection to the proposed action, EPA did highlight that the applicant must comply with Transportation Conformity and obtain a 404 permit.

EIS No. 20050280, ERP No. F-COE-E39050-FL, Herbert Hoover Dike Major Rehabilitation Evaluation Study, Proposed to Reduce the Probability of a Breach of Reach One, Lake Okeechobee, Martin and Palm Beach Counties, FL.

Summary: EPA had no objections to the proposed action.

EIS No. 20050284, ERP No. F-BOP-D80031-WV, Southern West Virginia Proposed Federal Correctional Institution, Four Alternatives Sites in Southern West Virginia, Boone County, Mingo County, Nicholas County, and McDowell County, WV.

Summary: EPA previous issues have been resolved, therefore, EPA has no objection to the action as proposed.

EIS No. 20050290, ERP No. F-NOA-L99010-AK, Pribilof Islands Setting for the Annual Subsistence Harvest of Northern Fur Seals, To Determine and Publish the Take Ranges, Pribilof Islands, AK.

Summary: No formal comment letter was sent to the preparing agency.

EIS No. 20050291, ERP No. F-AFS-J65437-CO, Gold Camp Road Plan, Develop a Feasible Plan to Manage the Operation of Tunnel #3 and the 8.5 mile Road Segment, Pike National Forest, Pikes Peak Ranger District, Colorado Springs, El Paso County, CO.

Summary: EPA continues to have environmental concerns due to the potential for impacts to water quality and the lack of contingent mitigation measures. EPA suggests that accelerated Best Management Practices be implemented to mitigate any further degradation.

EIS No. 20050314, ERP No. F-AFS-J65412-MT, Grasshopper Fuels Management Project, Modification of Vegetation Conditions, Reduction in Fuel Loads and Break Up Fuel Continuity, Beaverhead-Deerlodge National Forest, Dillon Ranger District, Beaverhead County, MT.

Summary: While EPA has no objection to the proposed action, EPA did request clarification regarding the sharing of aquatic monitoring results.

EIS No. 20050224, ERP No. FA-FHW-C40129-NY, NY-9A Reconstruction Project, West Thames Street to Chambers Street in Lower Manhattan the Result of September 11, 2001 Attack, Lower Manhattan Redevelopment, New York County, NY.

Summary: EPA has no objections to the proposed project.

Dated: August 23, 2005.
Ken Mittelholtz,
Environmental Protection Specialist, Office of Federal Activities.

[FR Doc. 05-17035 Filed 8-25-05; 8:45 am]

BILLING CODE 6560-50-P